DEPARTMENT OF DEFENSE

Department of the Navy

[Docket ID: USN-2025-HQ-0301]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 2, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV Forms/Information Collections Office (DNS-14), 2000 Navy Pentagon, Room 4E563, Washington, DC 20350-2000, ATTN: Ms. Ashley Alford, or call 703-614-7585.

SUPPLEMENTARY INFORMATION:

Title; Associated Form; and OMB Number: Personalized Recruiting for Immediate and Delayed Enlistment Modernization (PRIDE Mod); OMB Control Number 0703-0062.

Needs and Uses: The Department of the Navy is seeking public comment on the renewal of an information collection used to support the U.S. Navy's recruiting process. The system, known as Personalized Recruiting for Immediate and Delayed Enlistment Modernization II (PRIDE Mod II), is the primary tool used by Navy recruiters to collect information from individuals who wish to enlist.

This information is necessary to make a comprehensive assessment of an applicant's suitability for naval service. The collected data includes personal, educational, and background details, which are used to determine an individual's mental, physical, and moral qualifications. This information is essential for making initial accession decisions, determining eligibility for specific jobs or special programs, and ensuring that applicants meet the high standards required for service in the U.S. Navy.

Affected Public: Individuals or households.

Annual Burden Hours: 60,000.

Number of Respondents: 60,000.

Responses per Respondent: 1.

Annual Responses: 60,000.

Average Burden per Response: 1 hour.

Frequency: On occasion.

Dated: December 23, 2025.
Stephanie J. Bost,
Alternate OSD Federal Register Liaison Officer, Department of Defense.

[FR Doc. 2025-24063 Filed 12-30-25; 8:45 am]

BILLING CODE 6001-FR-P